FEDERAL COMMUNICATIONS COMMISSION

47 CFR Part 25

[GN Docket No. 23-65; IB Docket No. 22-271; FCC 24-28; FR ID 264973]

Single Network Future: Supplemental Coverage From Space Information Collection Approval for Space Station and Earth Station Applications

AGENCY: Federal Communications Commission.

ACTION: Final rule; announcement of effective date.

SUMMARY: In this document, the Federal Communications Commission (Commission) announces that the Office of Management and Budget (OMB) has approved, for a period of three years, the information collection associated with certain rules adopted in a Report and Order, FCC 24-28, in GN Docket No. 23-65 and IB Docket No. 22-271 (SCS Report and Order) for space station and earth station applicants wishing to provide supplemental coverage from space (SCS). The SCS Report and Order stated that the Commission would publish a document in the Federal Register announcing the effective date of rules which were delayed indefinitely. With this document, the Commission is announcing the effective date of the rules applicable to space station and earth station applicants.

DATES: The amendments to 47 CFR 25.125(b)(1) and (2) and (c), published at 89 FR 34148 on April 30, 2024, are effective on December 5, 2024.

FOR FURTHER INFORMATION CONTACT: Stephanie Neville, Space Bureau, at (202) 418-1671 or Stephanie.Neville@fcc.gov. For information regarding the Paperwork Reduction Act information collection requirements, contact Cathy Williams, Office of Managing Director, at (202) 418-2918 or via email at Cathy.Williams@fcc.gov.

SUPPLEMENTARY INFORMATION: This document announces that, on October 16, 2024, OMB approved the information collection requirements in 47 CFR 25.125(b)(1) and (2) and (c), as modified in the SCS Report and Order (89 FR 34148, April 30, 2024). The SCS Report and Order stated that the Commission would publish a document in the Federal Register announcing the effective date of those rules. This document announces the effective date of those rules. Rules adopted in the SCS Report and Order that did not require OMB approval became effective on May 30, 2024, as identified in the Federal Register publication of the SCS Report and Order. Moreover, the effective date of other rule amendments adopted in the SCS Report and Order that also required OMB approval either already have been announced (89 FR 81013, Oct. 7, 2024) or will be announced separately.

If you have any comments on the burden estimates listed below, or how the Commission can improve the collections and reduce any burdens caused thereby, please contact Cathy Williams, Federal Communications Commission, Cathy.Williams@fcc.gov, regarding OMB Control Number 3060-0678. Please include the applicable OMB Control Number(s) in your correspondence. The Commission will also accept your comments via email at PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the Commission is notifying the public that it received final OMB approval on October 16, 2024, for the information collection requirements in 47 CFR 25.125(b)(1) and (2) and (c), as modified in the SCS Report and Order.

Under 5 CFR part 1320, an agency may not conduct or sponsor a collection of information unless it displays a current, valid OMB Control Number. No person shall be subject to any penalty for failing to comply with a collection of information subject to the Paperwork Reduction Act that does not display a current, valid OMB Control Number. The OMB Control Number for the information collection requirements in these rules is 3060-0678.

The foregoing notice is required by the Paperwork Reduction Act of 1995, Public Law 104-13, October 1, 1995, and 44 U.S.C. 3507.

The total annual reporting burdens and costs for the respondents are as follows:

OMB Control Number: 3060-0678.

OMB Approval Date: October 16, 2024.

OMB Expiration Date: October 31, 2027.

Title: Part 25 of the Federal Communications Commission's Rules Governing the Licensing of, and Spectrum Usage By, Commercial Earth Stations and Space Stations.

Form Number: FCC Form 312 (Main Form and Schedules A, B, and S), FCC Form 312-R.

Respondents: Business or other for-profit, not-for-profit institutions.

Number of Respondents and Responses: 3,535 respondents and 3,587 responses.

Estimated Time per Response: 0.5-80 hours.

Frequency of Response: On occasion, one time and annual reporting requirements; third-party disclosure requirement; recordkeeping requirement.

Obligation to Respond: Required to obtain or retain benefits. The statutory authority for this information collection is contained in 47 U.S.C. 151, 154(i), 157, 301, 303, 307, 308, 309, and 310.

Total Annual Burden: 27,620.

Annual Cost Burden: $4,154,267.

Needs and Uses: The Commission will use the information collected under this revised information collection to effect the policies adopted in SCS Report and Order released on March 15, 2024. The SCS regulatory framework enables collaborations between satellite service providers and terrestrial service providers to offer ubiquitous connectivity directly to consumer handsets using spectrum that was previously allocated only to terrestrial service. The Commission anticipates that SCS will enable consumers in areas not covered by terrestrial networks to be connected using their existing devices via satellite-based communications. SCS is a crucial component of the Commission's vision for a “single network future,” in which satellite and terrestrial networks work seamlessly together to provide coverage that neither network can achieve on its own.

The SCS Report and Order largely preserves the existing 47 CFR part 25 service rules governing satellite communications and applies them to operators who now seek to provide SCS services. For instance, the rules for 47 CFR part 25 license terms and renewals, spectrum milestones, surety bond requirements, automatic termination, and orbital debris mitigation requirements are unchanged. The SCS Report and Order further requires that parties who wish to provide SCS submit, via FCC Form 312, either a new application or a modification application to offer expanded services. Said applications must include certifications that: (1) a lease notification or application pursuant to 47 CFR 1.9047 has been filed; (2) the space station licensee or grantee of market access that seeks modification of its 47 CFR part 25 authority in order to provide SCS will do so in the same geographic areas covered by the relevant geographically independent area (GIA); and (3) SCS earth stations will qualify as licensed by rule earth stations under 47 CFR 25.115(q). Applicants must also describe in detail their proposals to provide SCS service on existing FCC Form 312, Schedule S.

The Commission will use this information to assess applicants' legal, technical, and other qualifications to provide SCS, and to conclude whether, and under what conditions, grant of an authorization will serve the public interest. Further, this information collection will enable the Commission to monitor and enforce the entry criteria for SCS providers that the SCS Report and Order imposed, which are designed to minimize the possibility of interference between co-channel operators and geographically adjacent markets.

Federal Communications Commission.
Katura Jackson,
Federal Register Liaison Officer.

[FR Doc. 2024-28424 Filed 12-3-24; 8:45 am]

BILLING CODE 6712-01-P